COMMODITY FUTURES TRADING COMMISSION

Agency Information Collection Activities Under OMB Review

AGENCY: Commodity Futures Trading Commission.

ACTION: Notice to renew an existing collection.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before April 2, 2012.

FOR FURTHER INFORMATION OR A COPY CONTACT: Lynn A. Bulan, Office of General Counsel, U.S. Commodity Futures Trading Commission, 1155 21st Street NW., Washington, DC 20581, (202) 418-5143; FAX: (202) 418-5567; email: lbulan@cftc.gov and refer to OMB Control No. 3038-0033.

You may submit comments, identified by 3038-0021, by any of the following methods:

• The agency's Web site, at http://comments.cftc.gov. Follow the instructions for submitting comments through the Web site.

• Mail: David A. Stawick, Secretary of the Commission, Commodity Futures Trading Commission, Three Lafayette Centre, 1155 21st Street NW., Washington, DC 20581.

• Hand Delivery/Courier: Same as mail above.

• Federal eRulemaking Portal: http://www.regulations.gov. Follow the instructions for submitting comments.

Please submit your comments using only one method.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

SUPPLEMENTARY INFORMATION: This is a request for extension of a currently approved information collection.

Abstract: Title: Notification of Pending Legal Proceedings Pursuant to 17 CFR 1.60, OMB Control No. 3038-0033—Extension

The rule is designed to assist the Commission in monitoring legal proceedings involving the responsibilities imposed on contract markets and their officials and futures commission merchants and their principals by the Commodity Exchange Act, or otherwise. These rules are promulgated pursuant to the Commission's rulemaking authority contained in Sections 4a(a), 4i, and 8a(5) of the Act, 7 U.S.C. 6a(1), 6i, and 12a(5).

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on October 2, 2008 (73 FR 57338).

Burden statement: The respondent burden for this collection is estimated to average .10 hours per response.

Respondents/Affected Entities: 108.

Estimated number of responses: 1.

Estimated total annual burden on respondents: .10 hours.

Frequency of collection: On occasion.

Send comments regarding the burden estimated or any other aspect of the information collection, including suggestions for reducing the burden, to the addresses listed above. Please refer to OMB Control No. 3038-0033 in any correspondence.

Issued in Washington, DC, on February 27, 2012, by the Commission.
David A. Stawick,
Secretary of the Commission.

[FR Doc. 2012-5168 Filed 3-1-12; 8:45 am]

BILLING CODE P